FEDERAL RETIREMENT THRIFT INVESTMENT BOARD

Sunshine Act; Notice of Board Member Meeting

Federal Retirement Thrift Investment Board Meeting Agenda June 25, 2018, In Person, 8:30 a.m.

Open Session

1. Approval of the Minutes for the May 30, 2018 Board Member Meeting

2. Monthly Reports

(a) Participant Activity

(b) Legislative Report

(c) Investment Policy

3. Vendor Financials

4. FEVS Update

5. EBSA Audit Report Update

6. IT Update

7. Strategic Acquisition

Closed Session

Information covered under 5 U.S.C. 552b(c)(4), (c)(9)(B).

CONTACT PERSON FOR MORE INFORMATION: Kimberly Weaver, Director, Office of External Affairs, (202) 942-1640.

Dated: June 18, 2018.
Dharmesh Vashee,
Deputy General Counsel, Federal Retirement Thrift Investment Board.

[FR Doc. 2018-13381 Filed 6-18-18; 4:15 pm]

BILLING CODE 6760-01-P